POSTAL SERVICE

Market Test of Experimental Product—Customized Delivery

AGENCY: Postal Service™.

ACTION: Notice.

SUMMARY: The Postal Service gives notice of a market test of an experimental product in accordance with statutory requirements.

DATES: Effective Date: September 30, 2014.

FOR FURTHER INFORMATION CONTACT: Elizabeth A. Reed, 202-268-3179.

SUPPLEMENTARY INFORMATION: The United States Postal Service® hereby gives notice that, pursuant to 39 U.S.C. 3641(c)(1), it will begin a market test of its Customized Delivery experimental product on or after October 24, 2014. The Postal Service has filed with the Postal Regulatory Commission a notice setting out the basis for the Postal Service's determination that the market test is covered by 39 U.S.C. 3641 and describing the nature and scope of the market test. Documents are available at www.prc.gov, Docket No. MT2014-1.

Stanley F. Mires,
Attorney, Federal Requirements.

[FR Doc. 2014-23189 Filed 9-29-14; 8:45 am]

BILLING CODE 7710-12-P